DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointment of members made by the Secretary of Agriculture to fill 8 vacancies on the National Agricultural Research, Extension, Education, and Economics Advisory Board.

DATES: Appointments by the Secretary of Agriculture are for 2, or 3 year terms effective October 1, 2014.

ADDRESSES: National Agricultural Research, Extension, Education, and Economics Advisory Board, Research Extension, Education, and Economics Advisory Board Office, Room 332A, Whitten Building, U.S. Department of Agriculture; STOP 3401; 1400 Independence Avenue SW., Washington, DC 20250-2255.

FOR FURTHER INFORMATION CONTACT: Michele Esch, Executive Director, Research, Education, and Economics Advisory Board Office, Room 332A, Whitten Building, U.S. Department of Agriculture, 1400 Independence Avenue SW., STOP 3401, Washington, DC 20250-2255; telephone: 202-720-3684; fax: 202-720-6199; email: Michele.esch@usda.gov.

SUPPLEMENTARY INFORMATION: Section 802 of the Federal Agricultural Improvement and Reform Act of 1996 authorized the creation of the National Agricultural Research, Extension, Education, and Economics Advisory Board. The Board is composed of 25 members, each representing a specific category related to agriculture. The Board was first appointed in September 1996 and at the time one-third of the original members were appointed for one, two, and three-year term, respectively. Due to the staggered appointments, the terms for 8 of the 25 members expired September 30, 2014.

Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by category of the 8 appointments are as follows:

Category B. Farm Cooperatives: James P. Goodman, Owner/Farmer, Northwood Farm, Wonewoc, WI;

Category D. Plant Commodity Producer: Chalmers Carr III, Ridge Spring, SC;

Category E. National Aquaculture Association: Jeremy Liley, President/Aquatic Biologist, Liley Fisheries and Aquatic Consulting, Windsor, CO;

Category H. National Food Science Organization: Mark McLellan, Vice President of Research & Dean of the School of Graduate Studies, Utah State University, Logan, UT;

Category J. National Nutritional Science Society: Adriana Campa, Associate Professor of Nutrition, Florida International University, Miami, FL; Category K. 1862 Land-Grant Colleges and Universities: Milo Shult, Vice President for Agriculture Emeritus, University of Arkansas System, Doss, TX;

Category M. 1994 Equity in Education land-Grant Institutions: Chad Waukechon, Vice President of Green Bay/Oneida Campus, College of Menominee Nation, Keshena, WI; and

Category Y. National Social Science Association: Dawn Thilmany, Professor, Colorado State University, Dept. of Agriculture and Resource Economics, Fort Collins, CO.

Done at Washington, DC this 7th day of November 2014.
Catherine E. Woteki,
Under Secretary, Research, Education, and Economics.

[FR Doc. 2014-27199 Filed 11-17-14; 8:45 am]

BILLING CODE 3410-P